DEPARTMENT OF LABOR

Employment and Training Administration

[TA-W-62,234]

KLA-Tencor, San Jose, CA; Notice of Termination of Investigation

Pursuant to section 221 of the Trade Act of 1974, as amended, an investigation was initiated on October 2, 2007 in response to a petition filed on behalf of workers at KLA-Tencor, San Jose, California.

The petition has been deemed invalid. The petition was filed by three workers employed in two separately identifiable business divisions of the firm. Consequently, further investigation would serve no purpose and the investigation has been terminated.

Signed at Washington, DC, this 5th day of October, 2007.
Elliott S. Kushner,
Certifying Officer, Division of Trade Adjustment Assistance.

[FR Doc. E7-20109 Filed 10-11-07; 8:45 am]

BILLING CODE 4510-FN-P